DEPARTMENT OF COMMERCE

National Oceanic and Atmospheric Administration

Gulf of Mexico Fishery Management Council; Public Meetings; Correction

AGENCY: National Marine Fisheries Service (NMFS), National Oceanic and Atmospheric Administration (NOAA), Commerce.

ACTION: Notice of a revision to a public meeting.

SUMMARY: The Gulf of Mexico Fishery Management Council (Council) will convene its Law Enforcement Advisory Panel in conjunction with the Gulf States Marine Fisheries Commission's Law Enforcement Committee.

DATES: The meeting will convene at 8:30 a.m. on Wednesday, July 25, 2012 and conclude no later than 5 p.m. on July 26, 2012.

ADDRESSES: The meeting will be held at the Louisiana Wildlife & Fisheries Lab, 195 Ludwig Lane, Grand Isle, LA 70358; telephone: (985) 787-2163

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The original notice published in the Federal Register on July 6, 2012 (77 FR 39998). This notice is being republished in its entirety due to some agenda changes.

The Gulf of Mexico Fishery Management Council (Council) will convene the Law Enforcement Advisory Panel (LEAP) along with the Gulf States Marine Fisheries Commission's Law Enforcement Committee (LEC) in a workshop environment to revise the Two-Year Operations Plan and the Five-Year Strategic Plan that expire in 2013. The LEAP/LEC will also discuss Joint Enforcement Agreements and funding, as well as upcoming topics for their October 2012 meeting. Immediately following the workshop session, the LEAP/LEC will discuss recent individual fishing quota (IFQ) enforcement actions and possible changes being considered by NMFS to the IFQ program protocols including: Landing notification process, landing transaction procedures, process for approving or removing landing locations, and offloading requirements. Finally, the LEAP/LEC will discuss implications to enforcement of the recent decision by Louisiana to extend its seaward boundary from three miles to three marine leagues.

The Law Enforcement Advisory Panel consists of principal law enforcement officers in each of the Gulf States, as well as the National Oceanic and Atmospheric Administration (NOAA) Law Enforcement, U.S. Fish and Wildlife Service (FWS), the U.S. Coast Guard, and the NOAA General Counsel for Law Enforcement. A copy of the agenda and related materials can be obtained by calling the Council office at (813) 348-1630.

Although other non-emergency issues not on the agendas may come before the Law Enforcement Advisory Panel for discussion, in accordance with the Magnuson-Stevens Fishery Conservation and Management Act (Magnuson-Stevens Act), those issues may not be the subject of formal action during this meeting. Actions of the Law Enforcement Advisory Panel will be restricted to those issues specifically identified in the agendas and any issues arising after publication of this notice that require emergency action under section 305(c) of the Magnuson-Stevens Act, provided the public has been notified of the Council's intent to take action to address the emergency.

Special Accommodations

These meetings are physically accessible to people with disabilities. Requests for sign language interpretation or other auxiliary aids should be directed to Kathy Pereira at the Council (see ADDRESSES) 5 working days prior to the meeting.

Dated: July 6, 2012.
Tracey L. Thompson,
Acting Deputy Director, Office of Sustainable Fisheries, National Marine Fisheries Service.

[FR Doc. 2012-16934 Filed 7-10-12; 8:45 am]

BILLING CODE 3510-22-P